DEPARTMENT OF JUSTICE

Bureau of Prisons

28 CFR Part 540

[BOP-1149]

RIN 1120-AB49

Inmate Communication With News Media: Removal of Byline Regulations

AGENCY: Bureau of Prisons, Justice Department.

ACTION: Interim final rule; technical correction.

SUMMARY: This document corrects the dates section of an interim final rule published on Friday, April 23, 2010. In the interim rule, the Bureau of Prisons (Bureau) revised its regulations regarding inmate contact with the community to remove two current Bureau regulations that prohibit inmates from publishing under a byline, due to a recent court ruling invalidating Bureau regulation language containing this prohibition. The April 23, 2010, publication inadvertently omitted an effective date.

DATES: The interim final rule published April 23, 2010, at 75 FR 21163, is effective May 7, 2010. Comments are due by June 22nd, 2010.

ADDRESSES: Rules Unit, Office of General Counsel, Bureau of Prisons, 320 First Street, NW., Washington, DC 20534.

FOR FURTHER INFORMATION CONTACT: Sarah Qureshi, Office of General Counsel, Bureau of Prisons, phone (202) 307-2105.

SUPPLEMENTARY INFORMATION: This document corrects the DATES section of the publication on Friday, April 23, 2010 (75 FR 21163). The dates section of that document should read as follows: “This rule is effective on [insert date of publication]. Comments are due by June 22nd, 2010.” However, because that document did not include an effective date, this document announces the effective date of those provisions.

List of Subjects in 28 CFR Part 540

Prisoners.

Harley G. Lappin,
Director, Bureau of Prisons.

[FR Doc. 2010-10727 Filed 5-6-10; 8:45 am]

BILLING CODE P